DEPARTMENT OF ENERGY

DOE/NSF Nuclear Science Advisory Committee; Notice of Open Meeting

AGENCY: Office of Science, Department of Energy.

ACTION: Notice of Open Meeting.

SUMMARY: This notice announces a meeting of the DOE/NSF Nuclear Science Advisory Committee (NSAC). Federal Advisory Committee Act (Pub. L. 92-463, 86 Stat. 770) requires that public notice of these meetings be announced in the Federal Register.

DATES: Thursday, October 15, 2015; 9:00 a.m. to 5:30 p.m. Friday, October 16, 2015; 9:00 a.m. to 11:30 a.m.

ADDRESSES: American Geophysical Union Conference Center, 2000 Florida Avenue NW., Washington, DC 20009, (202) 777-7433.

FOR FURTHER INFORMATION CONTACT: Brenda L. May, U.S. Department of Energy; SC-26/Germantown Building, 1000 Independence Avenue SW., Washington, DC 20585-1290; Telephone: (301) 903-0536 or email: brenda.may@science.doe.gov. The most current information concerning this meeting can be found on the Web site: http://science.gov/np/nsac/meetings/.

SUPPLEMENTARY INFORMATION:

Purpose of the Board

To provide advice and guidance on a continuing basis to the Department of Energy and the National Science Foundation on scientific priorities within the field of basic nuclear science research.

Tentative Agenda

Agenda will include discussions of the following:

Thursday, October 15, 2015

• Perspectives from Department of Energy and National Science Foundation

• Updates from the Department of Energy and National Science Foundation's Nuclear Physics Office

• Presentation of the 2015 NSAC Long Range Plan Report

• NSAC Discussion of the 2015 Long Range Plan Report

• Presentation of the Charge for the DOE Office of Nuclear Physics Committee of Visitors

• Presentation of the NSAC Subcommittee Report on Neutrinoless Double Beta Decay Report

Friday, October 16, 2015

• Continued NSAC discussion of the Neutrinoless Double Beta Decay Report

• Discussion of Transmittal Letters for the Long Range Plan and Neutrinoless Double Beta Decay Reports

• Public Comment

Note: The NSAC Meeting will be broadcast live on the Internet. You may access the broadcast by going to the following site prior to the start of the meeting. A video record of the meeting, including the presentations that are made, will be archived at this site after the meeting ends: http://www.tvworldwide.com/events/DOE/151015.

Public Participation: The meeting is open to the public. If you would like to file a written statement with the Committee, you may do so either before or after the meeting. If you would like to make oral statements regarding any of the items on the agenda, you should contact Brenda L. May, at (301) 903-0536 or by email Brenda.May@science.doe.gov. You must make your request for an oral statement at least five business days before the meeting. Reasonable provision will be made to include the scheduled oral statements on the agenda. The Chairperson of the Committee will conduct the meeting to facilitate the orderly conduct of business. Public comment will follow the 10-minute rule.

Minutes: The minutes of the meeting will be available for review on the U.S. Department of Energy's Office of Nuclear Physics Web site at http://science.gov/np/nsac/meetings/.

Issued in Washington, DC, on September 18, 2015.
LaTanya R. Butler,
Deputy Committee Management Office.

[FR Doc. 2015-24284 Filed 9-23-15; 8:45 am]

BILLING CODE 6450-01-P